DEPARTMENT OF ENERGY

Federal Energy Regulatory Commission

[Docket No. RP01-583-000]

Algonquin Gas Transmission Company; Notice of Tariff Filing and Annual Charge Adjustment

September 7, 2001.

Take notice that on August 31, 2001, Algonquin Gas Transmission Company (Algonquin) tendered for filing as part of its FERC Gas Tariff, Fourth Revised Volume No. 1 and Original Volume No. 2, the revised tariff sheets listed on Appendix A of the filing, to become effective on October 1, 2001.

Algonquin states that the purpose of this filing is to implement the tracking of the ACA Unit Surcharge authorized by the Commission to be applied to rates for the fiscal year 2002 for recovery of the Annual Charge for fiscal year 2001. Algonquin states that the ACA Unit Surcharge authorized by the Commission for fiscal year 2002 is $0.0021 per dth, which is a decrease of $0.0001 per dth from the previous surcharge.

Algonquin states that copies of this filing were served on all affected customers of Algonquin and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.
Acting Secretary.

[FR Doc. 01-23134 Filed 9-14-01; 8:45 am]

BILLING CODE 6717-01-P